DEPARTMENT OF THE INTERIOR

Fish and Wildlife Service

[FWS-R2-R-2010-N208; 20131-1265-2CCP-S3]

Aransas National Wildlife Refuge Complex, Aransas, Calhoun, and Refugio Counties, TX; Final Comprehensive Conservation Plan and Finding of No Significant Impact for Environmental Assessment

AGENCY: Fish and Wildlife Service, Interior.

ACTION: Notice of availability.

SUMMARY: We, the U.S. Fish and Wildlife Service (Service), announce the availability of our final comprehensive conservation plan (CCP) and finding of no significant impact (FONSI) for the environmental assessment (EA) for the Aransas National Wildlife Refuge Complex (NWRC). In this final CCP, we describe how we will manage this refuge for the next 15 years.

ADDRESSES: You may view or obtain copies of the final CCP and FONSI/EA by any of the following methods. You may request a hard copy or CD-ROM.

Agency Web Site: Download a copy of the document(s) at http://www.fws.gov/southwest/refuges/Plan/index.html.

E-mail: roxanne_turley@fws.gov. Include “Aransas final CCP” in the subject line of the message.

Mail: Roxanne Turley, Natural Resource Planner, U.S. Fish & Wildlife Service, Division of Planning, P.O. Box 1306, Albuquerque, NM 87103-1306.

In-Person Viewing or Pickup: Call 505-248-6636 to make an appointment during regular business hours at 500 Gold Avenue SW., Albuquerque, NM 87102.

FOR FURTHER INFORMATION CONTACT: Dan Alonso, Refuge Manager, Aransas NWRC, P.O. Box 100, Austwell, TX 77050; by phone, 361-286-3559; or by e-mail, dan_alonso@fws.gov.

SUPPLEMENTARY INFORMATION:

Introduction

With this notice, we finalize the CCP process for the Aransas NWRC. We started this process through a notice in the Federal Register August 30, 2002 (67 FR 55862).

Aransas NWRC is located in Aransas, Calhoun, and Refugio Counties, Texas, and encompasses 115,931 acres of coastal prairie, oak woodland and savannah, barrier island, and salt and freshwater marshes. Management efforts focus on protecting, enhancing, and restoring Refuge habitats and water management for the benefit of important fish and wildlife resources. The Refuge is world renowned for hosting the largest wild flock of endangered whooping cranes each winter. Other native species on the Refuge include the American alligator, javelina, roseate spoonbill, armadillo, and wildflowers.

Aransas NWRC was established “as a refuge and breeding grounds for birds”, by Executive Order No. 7784 on December 31, 1937. The authority of the Migratory Bird Conservation Act (16 U.S.C. 712d) establishes that each refuge in the system is “for use as an inviolate sanctuary, or any other management purpose, for migratory birds.” The Refuge Recreation Act (16 U.S.C. 460-1) states that each refuge in the system is “suitable for incidental fish and wildlife-oriented recreational development, the protection of natural resources, and the conservation of endangered or threatened species.” Additionally, Aransas NWRC contains critical habitat for the whooping crane (43 FR 20938, May 15, 1978).

We announce our decision and the availability of the FONSI for the final CCP for the Aransas NWRC in accordance with National Environmental Policy Act (NEPA) (40 CFR 1506.6(b)) requirements. We completed a thorough analysis of impacts on the human environment, which we included in the EA that accompanied the draft CCP.

The CCP will guide us in managing and administering the Aransas National Wildlife Refuge Complex for the next 15 years. Alternative B, with modifications as described in Appendix J (Response to Public Comments), is selected as the management direction for the Final Plan.

Background

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

CCP Alternatives, Including Selected Alternative

Our draft CCP and our EA (75 FR 6872) addressed several issues. To address these, we developed and evaluated the following alternatives.

| A: No-action alternative | B: Optimal habitat management and public use (proposed action) alternative | C: Maximal habitat management and public-use alternative
Issue 1: Habitat Management Activities | Biological program and habitat management would continue under existing plans, with the emphasis remaining primarily on migratory birds, waterfowl, and Federally listed species; the status quo would prevail without the benefit of holistic, long-term, and comprehensive guidance | Ecosystem-level management actions to better protect and preserve the natural diversity of unique habitats and sensitive wildlife, through a holistic, partnered, and publically involved approach, would be implemented; current and future long-term benefits for migratory and resident birds, wildlife and their habitats, and the recovery of threatened and endangered species would be provided | Intensive management to achieve a predetermined amount of woodlands, wetlands, croplands, grasslands, shrublands, and water impoundments to benefit the highest variety of plants and wildlife would be implemented.
Issue 2: Improvements to Public Use Opportunities | Current public use under existing plans would continue; any expansions would occur opportunistically | An optimal, quality experience for the public. Priority wildlife-dependent uses would be emphasized, and other existing public uses would be allowed where appropriate | All priority public uses (hunting, fishing, wildlife observation, photography, and environmental education and interpretation) would be expanded above current levels. Visitor facilities and interpretive and environmental education programs would be improved or developed.
Issue 3: Refuge Land and Boundary Protection | Currently, there is no active land acquisition or land protection plan. However, any future acquisitions would be based on an approved land protection plan, developed as a step-down plan of the CCP. Any additional lands added to the Refuge would be purchased from willing sellers as opportunities and funding arise | Same as Alternative A; however, additional land protection to address whooping crane flock expansion in the vicinity of the Refuge would be considered. The emphasis would remain on protecting whooping cranes and available acres of existing wetland or restorable wetland habitat and adjacent uplands in portions of Aransas, Calhoun, and Refugio Counties | Same as Alternative A.

Comments

We solicited comments on the draft CCP and the EA for the Aransas NWRC from February 12, 2010, to April 13, 2010 (75 FR 7862). Subsequently, the Draft Plan/EA was made available for public review starting on February 12, 2010, at the Refuge, online, and at the Regional Office in Albuquerque, New Mexico. Two open house meetings were held in communities near the Refuge in March 2010. In all, approximately 30 individuals attended the open house meetings and a total of 73 comments were submitted in writing or phoned in to the Refuge/Regional Office. Additionally, one State agency, two Federal agencies, and four nongovernmental organizations responded prior to the end of the 60-day public comment period.

Based on the comments received, the Draft Plan/EA was changed to include an improved assessment of effects to air and water resources, inclusion of wildlife observed at the refuge, added strategies for wildlife-dependent recreation, and updates or added supplemental information throughout the document.

Selected Alternative

After considering the comments we received, we have selected Alternative B for implementation. This alternative describes how habitat objectives will be accomplished through a combination of management activities to encourage ecological integrity, promote restoration of coastal prairie habitats, control invasive plant species, and provide long-term benefits for migratory and resident birds and the recovery of threatened and endangered species. This alternative was selected because it best meets refuge purposes and goals of the Aransas National Wildlife Refuge Complex. This action will not adversely impact threatened or endangered species or their habitat. Opportunities for wildlife-dependent recreation activities, such as hunting, fishing, wildlife observation, photography, environmental education, and interpretation, will be enhanced. Future management actions will have a neutral or positive impact on the local economy, and the recommendations in the Plan will ensure that Refuge management is consistent with the mission of the National Wildlife Refuge System.

Public Availability of Documents

In addition to the methods in ADDRESSES, you can view or obtain documents at the following locations:

• Our Web site: http://www.fws.gov/southwest/refuges/texas/STRC/laguna/Index_Laguna.html.

• At the following libraries:

Library | Address | Phone number
Victoria Public Library | 302 N Main St., Victoria, TX 77901 | 361-572-2701
Parkdale Branch Library | 1230 Carmel Pkwy., Corpus Christi, TX 78411 | 361-853-9961
Calhoun County Public Library | 200 West Mahan St., Port Lavaca, TX 77979 | 361-552-7323
Aransas County Public Library | 701 E Mimosa St., Rockport, TX 78382 | 361-790-0153

Dated: January 19, 2011.
Joy Nicholopoulor.
Regional Director, U.S. Fish and Wildlife, Region 2.

[FR Doc. 2011-1299 Filed 1-27-11; 8:45 am]

BILLING CODE 4310-55-P